NUCLEAR REGULATORY COMMISSION

[Docket Nos. 50-338, 50-339; 50-280 and 50-281; NRC-2013-0172]

Virginia Electric and Power Company; North Anna Power Station, Units 1 and 2; Surry Power Station, Units 1 and 2

AGENCY: Nuclear Regulatory Commission.

ACTION: Environmental assessment and finding of no significant impact; issuance.

SUMMARY: The U.S. Nuclear Regulatory Commission (NRC) is considering changes to the Emergency Plan, “Conditions of licenses,” for North Anna Power Station, Units 1 and 2 (NAPS), for Renewed Facility Operating License Nos. NPF-4 and NPF-7, and Surry Power Station, Units 1 and 2 (Surry) for Renewed Facility Operating License Nos. DPR-32 and DPR-37, issued to Virginia Electric and Power Company (the licensee), for operation of NAPS and Surry located in Louisa County, Virginia, and Surry County, Virginia, respectively.

ADDRESSES: Please refer to Docket ID NRC-2013-0172 when contacting the NRC about the availability of information regarding this document. You may access information related to this document, which the NRC possesses and is publicly available, using any of the following methods:

• Federal Rulemaking Web site: Go to http://www.regulations.gov and search for Docket ID NRC-2013-0172. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Dr. V. Sreenivas, Office of Nuclear Reactor Regulation, U.S. Nuclear Regulatory Commission, Washington, DC 20555-0001, telephone: 301-415-2597, email: V.Sreenivas@nrc.gov.

SUPPLEMENTARY INFORMATION:

I. Further Information

The NRC is considering changes to the Emergency Plan, pursuant to § 50.54(q) of Title 10 of the Code of Federal Regulations (10 CFR), “Conditions of licenses,” for North Anna Power Station, Units 1 and 2 (NAPS), for Renewed Facility Operating License Nos. NPF-4 and NPF-7, and Surry Power Station, Units 1 and 2 (Surry) for Renewed Facility Operating License Nos. DPR-32 and DPR-37, issued to Virginia Electric and Power Company (the licensee), for operation of NAPS and Surry located in Louisa County, Virginia, and Surry County, Virginia, respectively. Therefore, as required by 10 CFR 51.21, the NRC performed an environmental assessment. Based on the results of the environmental assessment, the NRC is issuing a finding of no significant impact.

II. Environmental Assessment

Identification of the Proposed Action

The proposed action is a license amendment that would change the Emergency Action Levels (EALs), by adding a 15-minute threshold for isolation of reactor coolant system leaks based on NEI 99-01, Revision 5, “Methodology for Development of Emergency Action Levels,” using the guidance of NRC Regulatory Issue Summary 2003-18, Supplement 2, “Use of Nuclear Energy Institute (NEI) 99-01, Methodology for Development of Emergency Action Levels.” The proposed action is in accordance with the licensee's application, dated September 27, 2012, can be found in ADAMS under Accession No. ML12283A069.

The Need for the Proposed Action

The proposed action is needed because amendments would change an EAL scheme based on NUREG-0654, “Criteria for Preparation and Evaluation of Radiological Emergency Response Plan and Preparedness in Support of Nuclear Power Plants,” to one based on NEI 99-01, “Methodology for Development of Emergency Action Levels,” Revision 4. This change would add 15 minutes to the EAL to preclude classification for brief and readily isolatable RCS leaks. The addition of a 15-minute period would allow plant operators to isolate the RCS leaks using readily accessible means available in the Control Room.

Environmental Impacts of the Proposed Action

The NRC has completed its environmental assessment of the proposed EAL changes to NAPS and Surry. The staff has concluded that the changes would not affect plant safety and would not have an adverse effect on the probability of an accident occurring. The proposed change has no effect on the consequences of any analyzed accident since the change does not affect any equipment related to accident mitigation. The addition of a 15-minute criteria to the emergency action level only serves to ensure the emergency action level declaration is based upon plant conditions that are more indicative of a (Notice of) Unusual Event (UE) emergency classification level. The brief delay in declaring the proposed action would not result in radiological hazard beyond those previously analyzed in the Updated Final Safety Analysis Report, as this emergency classification level is based upon plant events that have no radiological consequences. There will be no change to radioactive effluents that affect radiation exposures to plant workers and members of the public. No changes will be made to plant buildings or the site property. Therefore, no changes or different types of radiological impacts are expected as a result of the proposed changes.

The proposed action does not result in changes to land use or water use, or result in changes to the quality or quantity of non-radiological effluents. No changes to the National Pollution Discharge Elimination System permit are needed. No effects on the aquatic or terrestrial habitat in the vicinity of the plant, or to threatened, endangered, or protected species under the Endangered Species Act, or impacts to essential fish habitat covered by the Magnuson-Stevens Act are expected. There are no impacts to the air or ambient air quality.

There are no impacts to historic and cultural resources. There would be no noticeable effect on socioeconomic conditions in the region.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the “Final Environmental Statement Related to the Continuation of Construction and the Operation,” for NAPS dated April 1973, and Surry dated May 1972 and June 1972, respectively, as supplemented through the “Generic Environmental Impact Statement for License Renewal of Nuclear Plants: Supplements 6 and 7 Regarding Surry and NAPS—Final Report (NUREG-1437, Supplements 6 and 7),” dated November 2002.

Agencies and Persons Consulted

In accordance with its stated policy, on July 3, 2013, the staff consulted with the Virginia State official, Steven A. Harrison, Director of the Division of Radiological Health, regarding the proposed EAL revision. The State official had no comments.

III. Finding of No Significant Impact

On the basis of the environmental assessment, the NRC concludes that the proposed action will not have a significant effect on the quality of the human environment. Accordingly, the NRC has determined not to prepare an environmental impact statement for the proposed action.

Dated at Rockville, Maryland, this 24th day of July 2013.
For the Nuclear Regulatory Commission.
V. Sreenivas,
Project Manager, Plant Licensing Branch 2-1, Division of Operating Reactor Licensing, Office of Nuclear Reactor Regulation.

[FR Doc. 2013-18518 Filed 7-31-13; 8:45 am]

BILLING CODE 7590-01-P